DEPARTMENT OF THE INTERIOR

Bureau of Ocean Energy Management

[OMB Control Number 1010-0082; Docket ID: BOEM-2024-0007]

Agency Information Collection Activities; Leasing of Minerals Other Than Oil, Gas, and Sulphur in the Outer Continental Shelf

AGENCY: Bureau of Ocean Energy Management, Interior.

ACTION: Notice of information collection; request for comment.

SUMMARY: In accordance with the Paperwork Reduction Act of 1995, the Bureau of Ocean Energy Management (BOEM) proposes this information collection request (ICR) to renew Office of Management and Budget (OMB) control number 1010-0082.

DATES: Comments must be received by BOEM no later than May 6, 2024.

ADDRESSES: Send your comments on this ICR by mail to the BOEM Information Collection Clearance Officer, Anna Atkinson, Bureau of Ocean Energy Management, 45600 Woodland Road, Sterling, Virginia 20166; or by email to anna.atkinson@boem.gov. Please reference OMB control number 1010-0082 in the subject line of your comments. You may comment on the ICR and view related documents by searching the docket number “BOEM-2024-0007” at http://www.regulations.gov.

FOR FURTHER INFORMATION CONTACT: Anna Atkinson by email at anna.atkinson@boem.gov, or by telephone at 703-787-1025. Individuals in the United States who are deaf, deafblind, hard of hearing, or have a speech disability may dial 711 (TTY, TDD, or TeleBraille) to access telecommunications relay services. Individuals outside of the United States should use the relay services offered within their country to make international calls to the point of contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

BOEM is soliciting comments on the proposed ICR described below. BOEM is especially interested in public comments addressing the following issues: (1) is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record. BOEM will include or summarize each comment on its ICR to OMB for approval of this information collection. You should be aware that your entire comment—including your address, phone number, email address, or other personally identifiable information included in your comment—may be made publicly available at any time. Even if BOEM withholds your personally identifiable information in the context of this ICR, your comment is subject to the Freedom of Information Act (FOIA) (5 U.S.C. 552). Your information will only be withheld if a determination is made that one of the FOIA exemptions to disclosure applies. Such a determination will be made in accordance with the DOI's FOIA implementing regulations (43 CFR part 2) and applicable law.

In order for BOEM to consider withholding from disclosure your personal identifying information, you must identify, in a cover letter, any information contained in the submittal of your comments that, if released, would constitute a clearly unwarranted invasion of your personal privacy. You must also briefly describe any possible harmful consequences of the disclosure of information, such as embarrassment, injury, or other harm. Note that BOEM will make available for public inspection, in their entirety, all comments submitted by organizations and businesses, or by individuals identifying themselves as representatives of organizations or businesses.

BOEM protects proprietary information in accordance with the Freedom of Information Act (5 U.S.C. 552), Outer Continental Shelf (OCS) Lands Act (43 U.S.C. 1352(c)), and the Department of the Interior's (DOI) implementing regulations (43 CFR part 2 and 30 CFR part 581).

Title of Collection: 30 CFR part 581, “Leasing of Minerals Other Than Oil, Gas, and Sulphur in the Outer Continental Shelf.”

Abstract: The OCS Lands Act (Act), as amended (43 U.S.C. 1334 and 43 U.S.C. 1337(k)), authorizes the Secretary of the Interior (Secretary) to administer OCS leasing and to prescribe the necessary regulations to do so. The Act authorizes the Secretary to lease any mineral other than oil, gas, and sulphur, subject to royalty, rental, and other terms and conditions that the Secretary may prescribe at the time of the lease offer.

Regulations at 30 CFR part 581 implement these statutory requirements. BOEM has not conducted any OCS leasing activity for minerals other than oil, gas, or sulphur in many years. Consequently, BOEM has not generally collected information under this part of its regulations. However, BOEM recognizes that the potential for such information collection exists under part 581. Therefore, BOEM seeks OMB renewal of the part 581 information collection.

BOEM will use the information required by 30 CFR part 581 to determine if statutory requirements are met prior to the issuance of a lease. Specifically, BOEM will use the information to:

• Evaluate the area and minerals requested by the applicant to assess the viability of offering leases for sale;

• Request States to establish a joint task force to assess the proposed action;

• Ensure excessive overriding royalty interests are not created that would put economic constraints on all parties involved;

• Document that a leasehold or geographical subdivision has been surrendered by the record title holder; and

• Determine if activities on the proposed lease area(s) will have a significant impact on the environment.

OMB Control Number: 1010-0082.

Form Number: None.

Type of Review: Renewal of a currently approved collection.

Respondents and Affected Public: As there are no active respondents, BOEM estimates the potential annual number of respondents to be one. Potential respondents are OCS lease requestors, State governments, and OCS mineral lessees.

Total Estimated Number of Annual Responses: 11 responses.

Total Estimated Number of Annual Burden Hours: 1,004 hours.

Respondent's Obligation: Required to retain or obtain a benefit.

Frequency of Collection: On occasion.

Total Estimated Annual Non-hour Burden Cost: $50 non-hour cost burden.

The following table details the individual information collection components and respective hour burden estimates of this ICR. The current approved annual burden hours are equal to 984 hours and the annual responses are equal to 10. This information collection request increases burdens to 1,004 and annual responses to 11 due to the potential of tie bids. Tie bids requirements would involve more than one respondent, so BOEM plans to increase this by one response and 20 annual burden hours. BOEM assumed that respondents perform certain requirements in the normal course of their activities. BOEM considers such requirements to be usual and customary and took that into account in estimating the burden.

Burden Table
Citation 30 CFR 581 | Reporting and/or recordkeeping requirements * | Hour burden | Average number of annual reponses | Annual burden hours
| Non-hour cost burden(s) *
Subpart A—General
6 | Appeal decisions | Exempt under 5 CFR 1320.4(a)(2), (c). |  | 0
9 | Governor of affected State initiates negotiations on jurisdictional controversy, etc., and enters agreement with BOEM | 16 | 1 request | 16
Subtotal | 1 response | 16
Subpart B—Leasing Procedures
11(a), (c) | Submit request for approval for mineral lease with required information | 60 | 1 request | 60
12 | Submit response to Call for Information and Interest on areas for leasing of minerals (other than oil, gas, or sulphur) in accordance with approved lease program, including information from States/local governments, industry, Federal agencies | Not considered IC as defined in 5 CFR 1320.3(h)(4). |  | 0
13; 16 | States or local governments establish task force; submit comments/recommendations on planning, coordination, consultation, and other issues that may contribute to the leasing process | 200 | 1 comment | 200
16 | Submit suggestions and relevant information in response to request for comments on the proposed leasing notice, including information from States/local governments | Not considered IC as defined in 5 CFR 1320.3(h)(4). |  | 0
18; 20(e), (f); 26(a), (b) | Submit bids (oral or sealed) and required information | 250 | 1 response | 250
18(b)(3), (c); 20 (e), (f) | Tie bids—submit oral bids for highest bidder | 20 | 2 responses | 40
20(a), (b), (c); 41(a) | Establish a company file for qualification, submit updated information, submit qualifications for lessee/bidder and required information | 58 | 1 response | 58
21(a); 47(c) | Request for reconsideration of bid rejection/cancellation | Not considered IC per 5 CFR 1320.3(h)(9). |  | 0
21(b), (e); 23; 26(e), (i); 40(b); 41 | Execute lease (includes submission of evidence of authorized agent and request for dating of leases); maintain auditable records re 30 CFR Chapter II, Subchapter A—[burden under ONRR requirements] | 100 | 1 lease | 100
Subtotal | 7 responses | 708
Subpart C—Financial Considerations
31(b); 41 | File application and required information for assignment or transfer for approval | 160 | 1 application | 160
| $50 required or non-required filing document fee × 1 = $50.
32(b), (c) | File application for waiver, suspension, or reduction and required documentation | 80 | 1 application | 80
33; 41(c) | Submit surety or personal bond | Burden covered under 1010-0081. |  | 0
Subtotal | 2 responses | 240
| $50 non-Hour Cost Burden.
Subpart E—Termination of Leases
46 | File written request for relinquishment | 40 | 1 response | 40
Total Burden | 11 responses | 1,004
| $50 Non-Hour Cost Burden.

An agency may not conduct or sponsor, and a person is not required to respond to, a collection of information unless it displays a currently valid OMB control number.

The authority for this action is the Paperwork Reduction Act of 1995 (44 U.S.C. 3501 et seq.).

Karen Thundiyil,
Chief, Office of Regulations, Bureau of Ocean Energy Management.

[FR Doc. 2024-04554 Filed 3-4-24; 8:45 am]

BILLING CODE 4340-98-P